DEPARTMENT OF ENERGY

Federal Energy Regulatory Commission

[Docket No. ER01-1965-000]

Commonwealth Edison Company; Notice of Filing

May 9, 2001.

Take notice that on May 3, 2001, Commonwealth Edison Company (ComEd), filed a request, consistent with last year's authorization (Notice of Interim Procedures to Support Industry Reliability Efforts, 91 FERC ¶61,189 (2000)), to purchase power using a streamlined regulatory process from entities with small amounts of electric wholesale sales. ComEd requests authorization for the use of the streamlined regulatory procedures for the period from June 1, 2001 to September 30, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 22, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12183 Filed 5-14-01; 8:45 am]

BILLING CODE 6717-01-M